DEPARTMENT OF ENERGY

Federal Energy Regulatory Commission

[Docket Nos. CP02-90-000 et al., CP01-36-000, CP01-382-000, CP01-52-000 and CP01-383-000]

Zia Natural Gas Company, an Operating Division of Natural Gas Processing Company v. Raton Gas Transmission Company [Not Consolidated]; Notice of Technical Conference

October 24, 2002.

Take notice that a technical conference to discuss a proposed settlement of issues raised by the complaints and certificate filings in these proceedings will be held on Thursday, November 14, 2002, at 10 a.m., in a room to be designated at the offices of the Federal Energy Regulatory Commission, 888 First Street, NE., Washington, DC, 20426.

All interested parties and staff are permitted to attend. For further information contact Cecilia Desmond at (202) 502-8695.

Linwood A. Watson, Jr.,
Deputy Secretary.

[FR Doc. 02-27921 Filed 11-1-02; 8:45 am]

BILLING CODE 6717-01-P